DEPARTMENT OF COMMERCE

National Oceanic and Atmospheric Administration

NOAA RESTORE Act Science Program Science Plan

AGENCY: National Ocean Service, National Oceanic and Atmospheric Administration, U.S. Department of Commerce

ACTION: Notice and Request for Public Comment.

SUMMARY: The National Ocean Service (NOS) of the National Oceanic and Atmospheric Administration (NOAA) publishes this notice to announce the availability of the Draft Science Plan for the NOAA RESTORE Act Science Program for public comment.

DATES: Comments on this draft document must be submitted by December 15, 2014.

ADDRESSES: The Draft Science Plan for the NOAA RESTORE Act Science Program will be available at http://restoreactscienceprogram.noaa.gov/.

The public is encouraged to submit comments on the Draft Science Plan. Electronic comments on the Draft Science Plan can be submitted via email (noaarestorescience@noaa.gov). Written comments can be submitted to Becky Allee at NOAA OCM, Gulf of Mexico Division, Bldg. 1100, Rm 232, Stennis Space Center, MS 39529.

FOR FURTHER INFORMATION CONTACT: For further information, contact: Becky Allee, (becky.allee@noaa.gov, 228-688-1701).

SUPPLEMENTARY INFORMATION: NOAA is publishing this notice to announce the availability of the Draft Science Plan for the NOAA RESTORE Act Science Program for public comment. The draft plan will be posted for public comment on October 30, 2014. All interested parties are encouraged to provide comments. The Draft Science Plan is being issued for comment only and is not intended for interim use. Suggested changes will be incorporated, where appropriate, in the final version.

Section 1604 of the Resources and Ecosystems Sustainability, Tourist Opportunities, and Revived Economies of the Gulf Coast States Act of 2012 (RESTORE Act) establishes the Gulf Coast Ecosystem Restoration Science, Observation, Monitoring, and Technology program (Science Program) to be administered by NOAA and to carry out research, observation, and monitoring to support the long-term sustainability of the ecosystem, fish stocks, fish habitat, and the recreational, commercial, and charter fishing industry in the Gulf of Mexico.

The Draft Science Plan for the NOAA RESTORE Act Science Program lays out the path forward for the program. The plan establishes ten Long-Term Research Priorities that will guide how the program will invest its funds. Additionally, the plan provides information on how the program will be administered and the partners with which the program will leverage future opportunities.

The plan is organized in three sections. Section I provides background on legislative requirements; the vision, mission, and outcomes of the program; program, geographic, and research scope; approach to engagement; and rationale and development of priorities. Section II describes the ten long-term research priorities identified for the program. Also included in Section II are management needs that drive the priority, related outcomes, and anticipated outputs as well as a list of example activities. Section III describes the program structure and administration; defines program management; consultation and coordination; program parameters; eligibility for funding opportunities; scientific integrity; and data and information sharing.

NOAA welcomes all comments on the content of the Draft Science Plan. We also request comments on any inconsistencies perceived within the document, and possible omissions of important topics or issues. For any shortcoming noted within the draft documents, please propose specific remedies.

Please adhere to the instructions detailed below for preparing and submitting your comments on the Draft Science Plan. Using the format guidance described below will facilitate the processing of reviewer comments and assure that all comments are appropriately considered. Please format your comments into the following three sections: (1) Background information about yourself; (2) overview or general comments; and (3) specific comments. Section one should include background information about yourself including: your name(s), organization(s), area(s) of expertise, mailing address, telephone and fax numbers, and email address(s). Section two should consist of overview or general comments on the document and should be numbered. Section three should consist of comments that are specific to particular pages, paragraphs, or lines in the document and should identify the page and line numbers to which they apply. Please number and print identifying information at the top of all pages.

Technical Program Information: Becky Allee, Science Plan Team Lead, 228-688-1701, Internet: becky.allee@noaa.gov.

Other Information

Administrative Procedure Act: Notice and comment are not required under the Administrative Procedure Act, (5 U.S.C. 553), or any other law, for notices relating to public property, loans, grants, benefits or contracts (5 U.S.C. 553(a)). Because notice and comment is not required, a Regulatory Flexibility Analysis is not required and has not been prepared for this notice, (5 U.S.C. 601 et seq.).

Paperwork Reduction Act: Notwithstanding any other provision of law, no person is required to respond to, nor shall any person be subject to a penalty for failure to comply with a collection of information subject to the requirements of the Paperwork Reduction Act, unless that collection displays a currently valid OMB Control Number. This notice involves no collection of information, although the FFO that NOAA anticipates issuing in fall 2014 will have such a requirement.

Dated: October 16, 2014.
Mary C. Erickson,
Director, National Centers for Coastal Ocean Science, National Ocean Service, National Oceanic and Atmospheric Administration.

[FR Doc. 2014-25797 Filed 10-29-14; 8:45 am]

BILLING CODE 3510-JE-P